ENVIRONMENTAL PROTECTION AGENCY

[FRL-8038-9; OEI-2006-0014]

New—SORN for Federal Retirement Benefits Calculator

AGENCY: Environmental Protection Agency (EPA).

ACTION: Notice of Establishment of a New System of Records Notice for Federal Retirement Benefits Calculator—FRB.

SUMMARY: Pursuant to the provisions of the Privacy Act of 1974 (5 U.S.C. 552a), the Office of Human Resources is giving notice that it proposes to establish a new system of records, Federal Retirement Benefits Calculator. This system of records is an integrated application that works from one central database that allows employees to access personal and benefits-related information.

DATES: Persons wishing to comment on this new system of records Notice may do so by April 10, 2006. Unless there is a further notice in the Federal Register, this new system of records will become effective on April 10, 2006.

ADDRESSES: Questions regarding this notice should be referred to Rose Ann Clark, Office of Human Resources, 1200 Pennsylvania Ave, NW., Washington, DC 20460.

FOR FURTHER INFORMATION CONTACT: Rose Ann Clark or (202) 564-7877.

SUPPLEMENTARY INFORMATION:

General Information

The Federal Retirement Benefits Calculator (FRB) is a system that integrates information into one central database. The FRB is an application that allows EPA employees to access personal and benefits-related information that will be used by EPA employees to calculate their retirement benefits. The information in the FRB system includes: voluntary, early, and disability retirement benefits; part-time and intermittent service; deposits and re-deposits owed; Social Security/Federal Employee Retirement System (FERS) supplement benefits; Civil Service Retirement System benefits; Thrift Savings Plan benefits; survivor benefits; and severance pay.

EPA Employees will be able to use the system to generate either a “quick” or a detailed retirement annuity estimate using the FRB calculator. EPA will provide information to the system in order for the employee to be able to generate an estimate. Data will be updated each pay period (bi-weekly).

EPA has established an official public docket for this action under Docket ID No. EPA-HQ-OEI-2006-0014. The official public docket is the collection of materials that is available for public viewing at the OEI Docket in the EPA Docket Center, (EPA/DC) EPA West, Room B102, 1301 Constitution Ave., NW., Washington, DC. The EPA Docket Center Public Reading Room is open from 8:30 a.m. to 4:30 p.m., Monday through Friday, excluding legal holidays. The telephone number for the Reading Room is (202) 566-1744, and the telephone number for the OEI Docket is (202) 566-1752.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified above.

Dated: February 21, 2006.
Linda A. Travers,
Acting Assistant Administrator and Chief Information Officer.

EPA-55

System Name: Federal Retirement Benefits Calculator

System Location

Economic Systems Inc., 3141 Fairview Park Dr., Suite 700, Falls Church, Virginia 22042-4507.

Categories of Individuals Covered By The System

Current employees of the Environmental Protection Agency (EPA). Any federal employee paid by EPA will be covered by the system.

Categories of Records in the System

This system contains records related to personnel, basic benefits, pay, and leave. This includes, but is not limited to, employee information such as: name(s), date of birth, social security number, home and mailing addresses, salary, number of hours worked, and service computation date.

Authority for Maintenance of the System

5 U.S.C. Chapter 53, Pay Rates and Systems; 5 U.S.C. 5101 et seq.; 5 U.S.C. 1308, 3323, 3595a, 8301, 8331, 8501; 5 U.S.C. 5525 et seq.; 5 U.S.C. 6301 et seq.; Executive Order 9397 (Nov.22, 1943).

Purpose

The Federal Retirement Benefits Calculator (FRB) is a system that integrates information into one central database. The FRB is an application that allows EPA employees to access personal and benefits-related information that will be used by EPA employees to calculate their retirement benefits. The information in the FRB system includes: voluntary, early, and disability retirement benefits; part-time and intermittent service; deposits and re-deposits owed; Social Security/Federal Employee Retirement System (FERS) supplement benefits; Civil Service Retirement System benefits; Thrift Savings Plan benefits; survivor benefits; and severance pay.

EPA employees will be able to use the system to generate either a “quick” or a detailed retirement annuity estimate using the FRB calculator. EPA will provide information to the system in order for the employee to be able to generate an estimate. Data will be updated each pay period (bi-weekly). EPA will provide the necessary information to the Contractor responsible for the FRB calculator through a secured site, followed by email notification.

General Routine Uses of EPA Systems of Records

A. To the Department of Treasury to issue checks, make payments, make electronic funds transfers, and issue U.S. Savings Bonds.

B. To the Department of Agriculture National Finance Center to credit Thrift Savings Plan deductions and loan payments to employee accounts.

C. To the Department of Labor in connection with a claim filed by an employee for compensation due to a job connected injury or illness.

D. To the Internal Revenue Service; Social Security Administration; and State and local tax authorities in connection with the withholding of employment taxes.

E. To State Unemployment Offices in connection with a claim filed by former employees for unemployment benefits.

F. To the Office of Personnel Management and to Health Benefit carriers in connection with enrollment and payroll deductions.

G. To the Office of Personnel Management in connection with employee retirement and life insurance deductions.

H. To the Combined Federal Campaign in connection with payroll deductions for charitable contributions.

I. To the Office of Management and Budget and Department of the Treasury to provide required reports on financial management responsibilities.

J. To the Internal Revenue Service in connection with withholdings for tax levies.

K. Information may be disclosed to contractors, grantees, consultants, or volunteers performing or working on a contract, service, grant, cooperative agreement, job or other activity for the Agency and who have a need to have access to the information in the performance of their duties or activities for the Agency. When appropriate, recipients will be required to comply with the requirement of the Privacy Act of 1974 as provided in 5 U.S.C. 552a(m).

Policies and Practices for Storing, Retrieving, Accessing, Retaining, and Disposing of Records in the System

Storage

Records are stored in electronic media or paper format within appropriate individual file folders.

Retrievability

Individual users will gain access to the system through the use of a combination Of First Name, Last Name, and the last four numbers of the Social Security Number.

User Name: First four letters of first name and first seven letters of last name.

Password: Two digit month and day of birth, and last four of Social Security Number.

Initially users will log in with identifying data, which will verify from information provided by the Agency. After verification, the system will establish a user account and request individual to change password. Users will be encouraged to immediately change this password. Only the data pertaining to the specific user will be retrievable via the newly created password.

Safeguards

Electronic records are maintained in a secure password-protected computer system and are accessible only by authorized personnel. Paper records are maintained in lockable metal file cabinets, or vault, accessible only by authorized personnel. Separations files are kept at the National Records Center in St Louis Missouri.

Retention and Disposal

The retention of data in the system will be in accordance with the EPA Records Schedule, as approved by the National Archives and Records Administration.

System Manager(s) and Address

Acting Director, Office of Human Resources, Environmental Protection Agency, 1200 Pennsylvania Avenue, NW., Washington, DC 20460.

Notification Procedure

Individuals wishing to determine if they are named in this system or seeking access to records maintained in this system must submit their requests in writing to the Office of Human Resources, 1200 Pennsylvania Avenue, NW., Washington DC 20460. Individuals requesting records must provide their name, address and a notarized statement attesting to their identity.

Record Access Procedures

See “Notification procedure” above. Individuals requesting access will also be required to provide adequate identification, such as a driver's license, employee identification badge, or other identifying document.

Contesting Record Procedures

See “Notification procedure” above. Individuals wishing to contest or amend information maintained in this system should specify the information being contested, the reason for contesting it, and the proposed amendment to such information.

Record Source Categories

Information in this system of records is provided by

A. EPA People Plus records. (Earning & Leave Records).

B. The employee about whom the record is maintained.

Exemptions Claimed For The System

None.

[FR Doc. E6-2900 Filed 2-28-06; 8:45 am]

BILLING CODE 6560-50-P